ENVIRONMENTAL PROTECTION AGENCY

[EPA-HQ-OPPT-2024-0425; FRL-12241-04-OCSPP]

1,3-Butadiene; Draft Risk Evaluation Under the Toxic Substances Control Act (TSCA); Science Advisory Committee on Chemicals (SACC) Peer Review; Notice of Rescheduled Meetings

AGENCY: Environmental Protection Agency (EPA).

ACTION: Notice.

SUMMARY: The Environmental Protection Agency (EPA or Agency) is announcing the rescheduled meeting dates of the Science Advisory Committee on Chemicals (SACC) that had been previously scheduled for February 2025 to consider and review the draft risk evaluation for 1,3-butadiene. The rescheduled preparatory meeting for the SACC to consider the scope and clarity of the revised draft charge questions for the peer review will now be held on March 25, 2025, and the rescheduled peer review meeting for the SACC to consider the draft documents and public comments will now be held on April 1 to 4, 2025. As previously announced, these meetings will be virtual public meetings of the SACC, with the public invited to comment on the scope and clarity of the revised draft charge questions for the peer review and the draft risk evaluation and related documents, including a new supplement of preliminarily refined risk estimates for 1,3-butadiene released from facilities in advance of and during the peer review meeting. The SACC will consider the comments during their discussions.

DATES:

Preparatory Public Meeting

Meeting date: March 25, 2025, 1:00 p.m. to approximately 4 p.m. (ET).

Registration: To request time to present oral comments during the preparatory meeting, you must register by noon (12 p.m. ET) on March 21, 2025. For those not making oral comments, registration will remain open through the end of this preparatory meeting.

Comments: Submit written comments, including written versions of oral comments, on the scope and clarity of the charge questions, on or before March 21, 2025.

SACC Peer Review Public Meeting

Meeting dates: April 1 to 4, 2025, 10 a.m. to approximately 5 p.m. (ET).

Registration: To request time to present oral comments during the peer review meeting, you must register by noon, March 28, 2025. For those not making oral comments, registration will remain open through the end of this peer review meeting.

Comments: Submit written comments on the draft risk evaluation and related documents including preliminarily refined risk estimates for 1,3-butadiene released from facilities, on or before March 20, 2025. Submit a written version of your oral comments on or before March 28, 2025.

Special Accommodations

To allow sufficient time for EPA to process your request for special accommodations before the meeting, please submit the request at least ten business days in advance of the relevant meeting.

ADDRESSES:

Comments: Submit written comments, identified by docket identification (ID) number EPA-HQ-OPPT-2024-0425, through https://www.regulations.gov. Follow the online instructions for submitting comments. Do not submit electronically any information you consider to be Confidential Business Information (CBI) or other information whose disclosure is restricted by statute. Additional information on commenting or visiting the docket, along with more information about dockets generally, is available at https://www.epa.gov/dockets.

Meeting Registration: Online registration will be available again beginning in March 2025. For those who have already registered, please register again so we have an updated registration attendance list for the rescheduled virtual preparatory meeting and SACC peer review meeting. Please refer to the SACC website at https://www.epa.gov/tsca-peer-review. After registering, you will receive the webcast and streaming service meeting links and audio teleconference information.

Special accommodation requests: To request an accommodation for a disability, please contact the designated federal official (DFO) listed under FOR FURTHER INFORMATION CONTACT.

FOR FURTHER INFORMATION CONTACT:

Designated Federal Official (DFO): Alie Muneer, Mission Support Division (7602M), Office of Program Support, Office of Chemical Safety and Pollution Prevention, Environmental Protection Agency; telephone number: (202) 564-6369 or call the main office number: (202) 564-8450; email address: muneer.alie@epa.gov.

SUPPLEMENTARY INFORMATION: The original meeting announcement appeared in the Federal Register on December 3, 2024, (89 FR 95779 (FRL-12241-02-OCSPP)). This document announces the new dates for the rescheduled virtual meetings. Please consult the December 3, 2024, document for details about the purpose of the meetings, as well as more detailed instructions for participating or providing comments.

As indicated previously, EPA's background documents, related supporting materials, including preliminarily refined risk estimates for 1,3-butadiene released from facilities, and revised draft charge questions to the SACC are available on the SACC website and in the docket established for the specific chemical substance that is the topic of the meeting and identified in the header of this document. In addition, EPA may provide additional background documents to the SACC as the materials become available (e.g., SACC meeting agenda). EPA is announcing the release of a new supplement of preliminarily refined risk estimates for 1,3-butadiene released from facilities and also revisions to the charge questions.

You may access these documents, and certain other related documents that might be available, through the docket at https://www.regulations.gov and the SACC website at https://www.epa.gov/tsca-peer-review.

After the SACC peer review meeting, the SACC will prepare the meeting minutes and final report document summarizing its recommendations to the EPA, which will also be available in the docket and through the SACC website.

Authority: 15 U.S.C. 2625(o); 5 U.S.C. 10.

Richard Keigwin,
Deputy Assistant Administrator, Office of Chemical Safety and Pollution Prevention.

[FR Doc. 2025-03798 Filed 3-10-25; 8:45 am]

BILLING CODE 6560-50-P